ENVIRONMENTAL PROTECTION AGENCY

[EPA-HQ-OAR-2003-0152, EPA-HQ-OAR-2011-0371, et al; FRL-10817-01-OAR]

Proposed Information Collection Request; Comment Request

AGENCY: Environmental Protection Agency (EPA).

ACTION: Notice.

SUMMARY: The U.S. Environmental Protection Agency (EPA) is planning to submit the below listed information collection requests (ICR) to the Office of Management and Budget (OMB) for review and approval in accordance with the Paperwork Reduction Act. Before doing so, EPA is soliciting public comments on specific aspects of the proposed information collection as described below. These are proposed extensions of the currently approved ICRs. An Agency may not conduct or sponsor, and a person is not required, to respond to a collection of information unless it displays a currently valid OMB control number.

DATES: Comments must be submitted on or before July 17, 2023.

ADDRESSES: Submit your comments, referencing the Docket ID numbers provided for each item in the text, online using www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Mr. Muntasir Ali, Sector Policies and Programs Division, (D243-05), Office of Air Quality Planning and Standards, U.S. Environmental Protection Agency, Research Triangle Park, North Carolina 27711; telephone number: (919) 541-0833; email address: Ali.Muntasir@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or part 63, subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OAR-2007-0563; National Volatile Organic Compound Emission Standards for Consumer Products (40 CFR part 59, subpart C) (Renewal); EPA ICR Number 1764.09; OMB Control Number 2060-0348; Expiration date August 31, 2023.

Respondents: Manufacturers, importers, and named distributors of consumer products.

Respondent's obligation to respond: Mandatory (40 CFR part 59 subpart C).

Estimated number of respondents: 732.

Frequency of response: Initially.

Estimated annual burden: 16,126 hours.

Estimated annual costs: $1,765,427, includes $0 annualized capital or O&M costs.

Changes in estimates: There is no change in the labor hours or capital and O&M costs to the respondents in this ICR compared to the previous ICR because the regulations have not changed over the past three years and are not anticipated to change over the next three years.

(2) Docket ID Number: EPA-HQ-OAR-2023-0115; NSPS for Nitric Acid Plants (40 CFR part 60, subparts G and Ga) (Renewal); EPA ICR Number 1056.14; OMB Control Number 2060-0019; Expiration date January 31, 2024.

Respondents: Nitric acid production units producing weak (30 to 70 percent) nitric acid.

Respondent's obligation to respond: Mandatory (40 CFR part 60, subparts G and Ga).

Estimated number of respondents: 32.

Frequency of response: Initially, semiannually.

Estimated annual burden: 2,534 hours.

Estimated annual cost: $3,040,000, includes $2,750,000 annualized capital or O&M costs.

Changes in estimates: There is a projected increase in burden due to an increase in the number of sources subject to the regulation.

(3) Docket ID Number: EPA-HQ-OAR-2003-0152; Compliance Assurance Monitoring Program (40 CFR part 64) (Renewal); EPA ICR Number 1663.11; OMB Control Number 2060-0376; Expiration date January 31, 2024.

Respondents: Title V sources with controlled pollutant-specific emissions units.

Respondent's obligation to respond: Mandatory (40 CFR part 64).

Estimated number of respondents: 21,565.

Frequency of response: Initially, semiannually, annually.

Estimated annual burden: 24,590 hours.

Estimated annual cost: $999,211, includes no annualized capital or O&M costs.

Changes in estimates: There is no projected change in burden from the previous ICR.

(4) Docket ID Number: EPA-HQ-OAR-2023-0137; NSPS for Sewage Sludge Incineration Units (40 CFR part 60, subpart LLLL) (Renewal); EPA ICR Number 2639.06; OMB Control Number 2060-0658; Expiration date January 31, 2024.

Respondents: Sewage sludge incineration unit facilities.

Respondent's obligation to respond: Mandatory (40 CFR part 60, subpart LLLL).

Estimated number of respondents: 8.

Frequency of response: Initially, annually, semiannually.

Estimated annual burden: 1,560 hours.

Estimated annual cost: $1,130,000, includes $1,050,000 annualized capital or O&M costs.

Changes in estimates: There is a projected increase in burden due to an increase in the number of sources subject to the regulation.

(5) Docket ID Number: EPA-HQ-OAR-2023-0116; NSPS for Automobile and Light Duty Truck Surface Coating Operations (40 CFR part 60, subpart MM) (Renewal); EPA ICR Number 1064.21; OMB Control Number 2060-0034; Expiration date February 29, 2024.

Respondents: Automobile and light duty truck surface coating operations.

Respondent's obligation to respond: Mandatory (40 CFR part 60, subpart MM).

Estimated number of respondents: 72.

Frequency of response: Initially, semiannually, quarterly.

Estimated annual burden: 214,000 hours.

Estimated annual cost: $24,400,000, includes $128,000 annualized capital or O&M costs.

Changes in estimates: There is a projected decrease in burden due to a decrease in the number of sources subject to the regulation.

(6) Docket ID Number: EPA-HQ-OAR-2003-0120; National Volatile Organic Compound Emission Standards for Automobile Refinish Coatings (Renewal); EPA ICR Number 1765.10; OMB Control Number 2060-0353; Expiration date February 29, 2024.

Respondents: Manufacturers and importers of automobile refinish coatings and coating components.

Respondent's obligation to respond: Mandatory (40 CFR part 59, subpart B).

Estimated number of respondents: 30.

Frequency of response: Initially.

Estimated annual burden: 14 hours.

Estimated annual cost: $980, includes no annualized capital or O&M costs.

Changes in estimates: There is no projected change in burden from the previous ICR.

(7) Docket ID Number: EPA-HQ-OAR-2023-0110; NSPS for Metal Coil Surface Coating (40 CFR part 60, subpart TT) (Renewal); EPA ICR Number 0660.14; OMB Control Number 2060-0107; Expiration date March 31, 2024.

Respondents: Metal coil surface coating facilities.

Respondent's obligation to respond: Mandatory (40 CFR part 60, subpart TT).

Estimated number of respondents: 158.

Frequency of response: Initially, quarterly, semiannually

Estimated annual burden: 16,200 hours.

Estimated annual cost: $1,950,000, includes $170,000 annualized capital or O&M costs.

Changes in estimates: There is no projected change in burden from the previous ICR.

(8) Docket ID Number: EPA-HQ-OAR-2023-0111; NSPS for Asphalt Processing and Roofing Manufacturing (40 CFR part 60, subpart UU) (Renewal); EPA ICR Number 0661.14; OMB Control Number 2060-0002; Expiration date April 30, 2024.

Respondents: Asphalt processing and roofing manufacturing facilities.

Respondent's obligation to respond: Mandatory (40 CFR part 60, subpart UU).

Estimated number of respondents: 144.

Frequency of response: Initially, semiannually.

Estimated annual burden: 34,100 hours.

Estimated annual cost: $9,240,000, includes $5,240,000 annualized capital or O&M costs.

Changes in estimates: There is a projected decrease in burden due to a decrease in the number of sources subject to the regulation.

(9) Docket ID Number: EPA-HQ-OAR-2023-0118; NSPS for Onshore Natural Gas Processing Plants (40 CFR part 60, subparts KKK and LLL) (Renewal); EPA ICR Number 1086.13; OMB Control Number 2060-0120; Expiration date April 30, 2024.

Respondents: Onshore natural gas processing plants.

Respondent's obligation to respond: Mandatory (40 CFR part 60, subparts KKK and LLL).

Estimated number of respondents: 362.

Frequency of response: Semiannually.

Estimated annual burden: 67,530 hours.

Estimated annual cost: $7,990,000, includes $68,400 annualized capital or O&M costs.

Changes in estimates: There is a projected decrease in burden due to a decrease in the number of sources subject to the regulation.

(10) Docket ID Number: EPA-HQ-OAR-2023-0129; The Consolidated Air Rule (CAR) for the Synthetic Organic Chemical Manufacturing Industry (SOCMI) (Renewal); EPA ICR Number 1854.14; OMB Control Number 2060-0443; Expiration date April 30, 2024.

Respondents: Synthetic organic chemical manufacturing facilities.

Respondent's obligation to respond: Mandatory (40 CFR part 60, subparts Ka, Kb, VV, VVa, DDD, III, NNN, and RRR; 40 CFR part 61, subparts V, Y, and BB; and 40 CFR part 63, subparts F, G, H, and I).

Estimated number of respondents: 1,356.

Frequency of response: Initially, quarterly, semiannually, annually.

Estimated annual burden: 1,100,000 hours.

Estimated annual cost: $128,000,000, includes $64,000,000 annualized capital or O&M costs.

Changes in estimates: There is a projected decrease in burden due to a decrease in the number of sources subject to the regulation.

(11) Docket ID Number: EPA-HQ-OAR-2023-0130; NESHAP for Cellulose Products Manufacturing (40 CFR part 63, subpart UUUU) (Renewal); EPA ICR Number 1974.12; OMB Control Number 2060-0488; Expiration date June 30, 2024.

Respondents: Cellulose products manufacturing plants.

Respondent's obligation to respond: Mandatory (40 CFR part 63, subpart UUUU).

Estimated number of respondents: 8.

Frequency of response: Initially, semiannually.

Estimated annual burden: 7,256 hours.

Estimated annual cost: $954,624, includes $120,135 annualized capital or O&M costs.

Changes in estimates: There is a projected decrease in burden due to anticipated shutdown of existing sources.

(12) Docket ID Number: EPA-HQ-OAR-2023-0109; NESHAP for Beryllium (40 CFR part 61, subpart C) (Renewal); EPA ICR Number 0193.14; OMB Control Number 2060-0092; Expiration date November 30, 2024.

Respondents: Facilities processing beryllium and its derivatives.

Respondent's obligation to respond: Mandatory (40 CFR part 61, subpart C).

Estimated number of respondents: 33.

Frequency of response: Initially, monthly.

Estimated annual burden: 2,670 hours.

Estimated annual cost: $344,000, includes $35,000 annualized capital or O&M costs.

Changes in estimates: There is no projected change in burden from the previous ICR.

(13) Docket ID Number: EPA-HQ-OAR-2023-0124; NESHAP for Aerospace Manufacturing and Rework Facilities (40 CFR part 63, subpart GG) (Renewal); EPA ICR Number 1687.13; OMB Control Number 2060-0314; Expiration date November 30, 2024.

Respondents: Aerospace manufacturing and rework facilities.

Respondent's obligation to respond: Mandatory (40 CFR part 63, subpart GG).

Estimated number of respondents: 144.

Frequency of response: Initially, semiannually, annually.

Estimated annual burden: 154,130 hours.

Estimated annual cost: $15,500,000, includes $144,000 annualized capital or O&M costs.

Changes in estimates: There is no projected change in burden from the previous ICR.

(14) Docket ID Number: EPA-HQ-OAR-2023-0134; NESHAP for Gold Mine Ore Processing (40 CFR part 63, subpart EEEEEEE) (Renewal); EPA ICR Number 2383.06; OMB Control Number 2060-0659; Expiration date November 30, 2024.

Respondents: Gold mine ore processing and production facilities.

Respondent's obligation to respond: Mandatory (40 CFR part 63, subpart EEEEEEE).

Estimated number of respondents: 21.

Frequency of response: Initially, semiannually, annually.

Estimated annual burden: 2,840 hours.

Estimated annual cost: $556,000, includes $227,000 annualized capital or O&M costs.

Changes in estimates: There is no projected change in burden from the previous ICR.

(15) Docket ID Number: EPA-HQ-OAR-2023-0114; NSPS for Electric Utility Steam Generating Units (40 CFR part 60, subpart Da) (Renewal); EPA ICR Number 1053.14; OMB Control Number 2060-0023; Expiration date December 31, 2024.

Respondents: Electric utility steam generating units.

Respondent's obligation to respond: Mandatory (40 CFR part 60, subpart Da).

Estimated number of respondents: 732.

Frequency of response: Initially, semiannually, quarterly.

Estimated annual burden: 171,000 hours.

Estimated annual cost: $31,000,000, includes $11,000,000 annualized capital or O&M costs.

Changes in estimates: There is a projected decrease in burden due to a decrease in the number of sources subject to the regulation.

(16) Docket ID Number: EPA-HQ-OAR-2020-0627; NSPS for Petroleum Refineries (40 CFR part 60, subpart J) (Renewal); EPA ICR Number 1054.15; OMB Control Number 2060-0022; Expiration date December 31, 2024.

Respondents: Petroleum refineries.

Respondent's obligation to respond: Mandatory (40 CFR part 60, subpart J).

Estimated number of respondents: 130.

Frequency of response: Semiannually.

Estimated annual burden: 13,800 hours.

Estimated annual cost: $2,450,000, includes $809,000 annualized capital or O&M costs.

Changes in estimates: There is no projected change in burden from the previous ICR.

(17) Docket ID Number: EPA-HQ-OAR-2023-0113; NSPS for Portland Cement Plants (40 CFR part 60, subpart F) (Renewal); EPA ICR Number 1051.16; OMB Control Number 2060-0025; Expiration date December 31, 2024.

Respondents: Portland cement facilities.

Respondent's obligation to respond: Mandatory (40 CFR part 60, subpart F).

Estimated number of respondents: 92.

Frequency of response: Initially, semiannually.

Estimated annual burden: 14,100 hours.

Estimated annual cost: $2,390,000, includes $744,000 annualized capital or O&M costs.

Changes in estimates: There is a projected decrease in burden due to anticipated shutdown of existing sources.

(18) Docket ID Number: EPA-HQ-OAR-2020-0628; NSPS for Sulfuric Acid Plants (40 CFR part 60, subpart H) (Renewal); EPA ICR Number 2060-0041; OMB Control Number 1057.16; Expiration date December 31, 2024.

Respondents: Sulfuric acid manufacturing plants.

Respondent's obligation to respond: Mandatory (40 CFR part 60, subpart H).

Estimated number of respondents: 53.

Frequency of response: Initially, semiannually.

Estimated annual burden: 13,500 hours.

Estimated annual cost: $1,900,000, includes $309,000 annualized capital or O&M costs.

Changes in estimates: There is no projected change in burden from the previous ICR.

(19) Docket ID Number: EPA-HQ-OAR-2023-0120; NSPS for Glass Manufacturing Plants (40 CFR part, 60 subpart CC) (Renewal); EPA ICR Number 1131.14; OMB Control Number 2060-0054; Expiration date December 31, 2024.

Respondents: Glass manufacturing plants.

Respondent's obligation to respond: Mandatory (40 CFR part 60, subpart CC).

Estimated number of respondents: 41.

Frequency of response: Initially, semiannually.

Estimated annual burden: 850 hours.

Estimated annual cost: $338,000, includes $238,000 annualized capital or O&M costs.

Changes in estimates: There is no projected change in burden from the previous ICR.

(20) Docket ID Number: EPA-HQ-OAR-2020-0633; NSPS for Polymeric Coating of Supporting Substrates Facilities (40 CFR part 60, subpart VVV) (Renewal); EPA ICR Number 1284.13; OMB Control Number 2060-0181; Expiration date December 31, 2024.

Respondents: Facilities engaged in polymeric coating of supporting substrates.

Respondent's obligation to respond: Mandatory (40 CFR part 60, subpart VVV).

Estimated number of respondents: 74.

Frequency of response: Initially, quarterly, semiannually.

Estimated annual burden: 16,400 hours.

Estimated annual cost: $2,770,000, includes $826,000 annualized capital or O&M costs.

Changes in estimates: There is a projected increase in burden due to an increase in the number of sources subject to the regulation.

(21) Docket ID Number: EPA-HQ-OAR-2023-0121; NSPS for Small Industrial-Commercial-Institutional Steam Generating Units (40 CFR part 60, subpart Dc) (Renewal); EPA ICR Number 1564.12; OMB Control Number 2060-0202; Expiration date December 31, 2024.

Respondents: Small industrial-commercial-institutional steam generating units.

Respondent's obligation to respond: Mandatory (40 CFR part 60, subpart Dc).

Estimated number of respondents: 323.

Frequency of response: Initially, semiannually.

Estimated annual burden: 219,000 hours.

Estimated annual cost: $38,300,000, includes $12,600,000 annualized capital or O&M costs.

Changes in estimates: There is a projected increase in burden due to an increase in the number of sources subject to the regulation.

(22) Docket ID Number: EPA-HQ-OAR-2023-0112; NSPS for Calciners and Dryers in Mineral Industries (40 CFR part 60, subpart UUU) (Renewal); EPA ICR Number 0746.12; OMB Control Number 2060-0251; Expiration date December 31, 2024.

Respondents: Mineral processing plants with calciners and dryers.

Respondent's obligation to respond: Mandatory (40 CFR part 60, subpart UUU).

Estimated number of respondents: 167.

Frequency of response: Initially, semiannually.

Estimated annual burden: 6,630 hours.

Estimated annual cost: $887,000, includes $109,000 annualized capital or O&M costs.

Changes in estimates: There is no projected change in burden from the previous ICR.

(23) Docket ID Number: EPA-HQ-OAR-2011-0371; National Volatile Organic Compound Emission Standards for Architectural Coatings (Renewal); EPA ICR Number 1750.10; OMB Control Number 2060-0393; Expiration date December 31, 2024.

Respondents: Manufacturers and importers of architectural coatings.

Respondent's obligation to respond: Mandatory (40 CFR part 59, subpart D).

Estimated number of respondents: 500.

Frequency of response: Initially, annually.

Estimated annual burden: 14,661 hours.

Estimated annual cost: $1,484,441, includes no annualized capital or O&M costs.

Changes in estimates: There is no projected change in burden from the previous ICR.

(24) Docket ID Number: EPA-HQ-OAR-2023-0135; NESHAP for Brick and Structural Clay Products Manufacturing (40 CFR part 63, subpart JJJJJ) (Renewal); EPA ICR Number 2509.03; OMB Control Number 2030-0047; Expiration date February 28, 2025.

Respondents: Brick and/or structural clay products manufacturing facilities.

Respondent's obligation to respond: Mandatory (40 CFR part 63, subpart JJJJJ).

Estimated number of respondents: 69.

Frequency of response: Initially, semiannually.

Estimated annual burden: 20,963 hours.

Estimated annual cost: $1,113,105 includes $682 annualized capital or O&M costs.

Changes in estimates: There is no projected change in burden from the previous ICR.

(25) Docket ID Number: EPA-HQ-OAR-2023-0136; NESHAP for Clay Ceramics Manufacturing (40 CFR part 63, subpart KKKKK) (Renewal); EPA ICR Number 2510.03; OMB Control Number 2030-0048; Expiration date February 28, 2025.

Respondents: Clay ceramics manufacturing facilities.

Respondent's obligation to respond: Mandatory (40 CFR part 63, subpart MM).

Estimated number of respondents: 3.

Frequency of response: Semiannually.

Estimated annual burden: 2,323 hours.

Estimated annual cost: $221,905, includes $99,119 annualized capital or O&M costs.

Changes in estimates: There is no projected change in burden from the previous ICR.

(26) Docket ID Number: EPA-HQ-OAR-2020-0629; NSPS for Primary and Secondary Emissions from Basic Oxygen Furnaces (40 CFR part 60, subparts N and Na) (Renewal); EPA ICR Number 1069.14; OMB Control Number 2060-0029; Expiration date February 28, 2025.

Respondents: Iron and steel plants that utilize basic oxygen furnaces.

Respondent's obligation to respond: Mandatory (40 CFR part 60, subparts N and Na).

Estimated number of respondents: 13.

Frequency of response: Semiannually.

Estimated annual burden: 4,560 hours.

Estimated annual cost: $562,000, includes $21,600 annualized capital or O&M costs.

Changes in estimates: There is a projected decrease in burden due to anticipated shutdown of existing sources.

(27) Docket ID Number: EPA-HQ-OAR-2020-0630; NESHAP for Inorganic Arsenic Emissions from Glass Manufacturing Plants (40 CFR part 61, subpart N) (Renewal); EPA ICR Number 1081.14; OMB Control Number 2060-0043; Expiration date February 28, 2025.

Respondents: Glass manufacturing plants.

Respondent's obligation to respond: Mandatory (40 CFR part 61, subpart N).

Estimated number of respondents: 16.

Frequency of response: Initially, semiannually.

Estimated annual burden: 3,100 hours.

Estimated annual cost: $423,000, includes $56,000 annualized capital or O&M costs.

Changes in estimates: There is no projected change in burden from the previous ICR.

(28) Docket ID Number: EPA-HQ-OAR-2020-0632; NSPS for Lime Manufacturing (40 CFR part 60, subpart HH) (Renewal); EPA ICR Number 1167.14; OMB Control Number 2060-0063; Expiration date February 28, 2025.

Respondents: Lime production facilities.

Respondent's obligation to respond: Mandatory (40 CFR part 60, subpart HH).

Estimated number of respondents: 41.

Frequency of response: Initially, semiannually.

Estimated annual burden: 3,820 hours.

Estimated annual cost: $514,000, includes $61,500 annualized capital or O&M costs.

Changes in estimates: There is no projected change in burden from the previous ICR.

(29) Docket ID Number: EPA-HQ-OAR-2020-0625; NESHAP for Vinyl Chloride (40 CFR part 61, subpart F) (Renewal); EPA ICR Number 0186.17; OMB Control Number 2060-0071; Expiration date February 28, 2025.

Respondents: Ethylene dichloride, polyvinyl chloride, and vinyl chloride facilities.

Respondent's obligation to respond: Mandatory (40 CFR part 61, subpart F).

Estimated number of respondents: 16.

Frequency of response: Initially, quarterly.

Estimated annual burden: 6,540 hours.

Estimated annual cost: $1,490,000, includes $720,000 annualized capital or O&M costs.

Changes in estimates: There is no projected change in burden from the previous ICR.

(30) Docket ID Number: EPA-HQ-OAR-2020-0631; NSPS for Hot Mix Asphalt Facilities (40 CFR part 60, subpart I) (Renewal); EPA ICR Number 1127.14; OMB Control Number 2060-0083; Expiration date February 28, 2025.

Respondents: Hot mix asphalt facilities.

Respondent's obligation to respond: Mandatory (40 CFR part 60, subpart I).

Estimated number of respondents: 828.

Frequency of response: Initially.

Estimated annual burden: 4,120 hours.

Estimated annual cost: $488,000, includes no annualized capital or O&M costs.

Changes in estimates: There is a projected decrease in burden due to a decrease in the number of sources subject to the regulation.

(31) Docket ID Number: EPA-HQ-OAR-2023-0108; NSPS for Bulk Gasoline Terminals (40 CFR part 60, subpart XX) (Renewal); EPA ICR Number 0664.14; OMB Control Number 2060-0006; Expiration date February 28, 2025.

Respondents: Bulk gasoline terminals.

Respondent's obligation to respond: Mandatory (40 CFR part 60, subpart XX).

Estimated number of respondents: 214.

Frequency of response: Initially.

Estimated annual burden: 70,900 hours.

Estimated annual cost: $8,320,000, includes no annualized capital or O&M costs.

Changes in estimates: There is no projected change in burden from the previous ICR.

(32) Docket ID Number: EPA-HQ-OAR-2020-0622; NESHAP for Wood Furniture Manufacturing Operations (40 CFR part 63, subpart JJ) (Renewal); EPA ICR Number 1716.12; OMB Control Number 2060-0324; Expiration date February 28, 2025.

Respondents: Wood furniture manufacturing operations.

Respondent's obligation to respond: Mandatory (40 CFR part 63, subpart JJ).

Estimated number of respondents: 230.

Frequency of response: Initially, quarterly, semiannually.

Estimated annual burden: 15,900 hours.

Estimated annual cost: $1,890,000, includes $12,900 annualized capital or O&M costs.

Changes in estimates: There is no projected change in burden from the previous ICR.

(33) Docket ID Number: EPA-HQ-OAR-2023-0126; NESHAP for Primary Aluminum Reduction Plants (40 CFR part 63, subpart LL) (Renewal); EPA ICR Number 1767.10; OMB Control Number 2060-0360; Expiration date February 28, 2025.

Respondents: Primary aluminum reduction facilities.

Respondent's obligation to respond: Mandatory (40 CFR part 63, subpart LL).

Estimated number of respondents: 8.

Frequency of response: Initially, quarterly, semiannually, annually.

Estimated annual burden: 52,300 hours.

Estimated annual cost: $6,440,000, includes $310,000 annualized capital or O&M costs.

Changes in estimates: There is a projected decrease in burden due to the anticipated shutdown of existing sources.

(34) Docket ID Number: EPA-HQ-OAR-2020-0624; NESHAP for Chemical Recovery Combustion Sources at Kraft, Soda, Sulfite, and Stand-Alone Semichemical Pulp Mills (40 CFR part 63, subpart MM) (Renewal); EPA ICR Number 1805.12; OMB Control Number 2060-0377; Expiration date February 28, 2025.

Respondents: Chemical recovery combustion sources at kraft, soda, sulfite, and stand-alone semichemical pulp mills.

Respondent's obligation to respond: Mandatory (40 CFR part 63, subpart MM).

Estimated number of respondents: 104.

Frequency of response: Initially, semiannually.

Estimated annual burden: 116,982 hours.

Estimated annual cost: $14,700,000, includes $788,000 annualized capital or O&M costs.

Changes in estimates: There is a projected decrease in burden due to a decrease in the number of sources subject to the regulation.

(35) Docket ID Number: EPA-HQ-OAR-2020-0636; NESHAP for Primary Lead Processing (40 CFR part 63, subpart TTT) (Renewal); EPA ICR Number 1856.13; OMB Control Number 2060-0414; Expiration date February 28, 2025.

Respondents: Facilities engaged in the smelting of lead from ores.

Respondent's obligation to respond: Mandatory (40 CFR part 63, subpart TTT).

Estimated number of respondents: 1.

Frequency of response: Quarterly, semiannually.

Estimated annual burden: 6,270 hours.

Estimated annual cost: $912,000, includes $169,000 annualized capital or O&M costs.

Changes in estimates: There is no projected change in burden from the previous ICR.

(36) Docket ID Number: EPA-HQ-OAR-2020-0623; NESHAP for Natural Gas Transmission and Storage (40 CFR part 63, subpart HHH) (Renewal); EPA ICR Number 1789.12; OMB Control Number 2060-0418; Expiration date February 28, 2025.

Respondents: Natural gas transmission and storage facilities.

Respondent's obligation to respond: Mandatory (40 CFR part 63, subpart HHH).

Estimated number of respondents: 73.

Frequency of response: Initially, semiannually.

Estimated annual burden: 3,780 hours.

Estimated annual cost: $448,000, includes no annualized capital or O&M costs.

Changes in estimates: There is a projected increase in burden due to an increase in the number of sources subject to the regulation.

(37) Docket ID Number: EPA-HQ-OAR-2020-0638; NESHAP for Leather Finishing Operations (40 CFR, part 63, subpart TTTT) (Renewal); EPA ICR Number 1985.11; OMB Control Number 2060-0478; Expiration date February 28, 2025.

Respondents: Leather finishing facilities.

Respondent's obligation to respond: Mandatory (40 CFR part 61, subpart TTTT).

Estimated number of respondents: 4.

Frequency of response: Initially, annually.

Estimated annual burden: 138 hours.

Estimated annual cost: $16,300, includes no annualized capital or O&M costs.

Changes in estimates: There is no projected change in burden from the previous ICR.

(38) Docket ID Number: EPA-HQ-OAR-2023-0122; NESHAP for Marine Tank Vessel Loading Operations (40 CFR part 63, subpart Y) (Renewal); EPA ICR Number 1679.12; OMB Control Number 2060-0289; Expiration date February 28, 2025.

Respondents: Marine tank vessel loading facilities.

Respondent's obligation to respond: Mandatory (40 CFR part 63, subpart Y).

Estimated number of respondents: 804.

Frequency of response: Initially, semiannually, annually.

Estimated annual burden: 10,700 hours.

Estimated annual cost: $1,260,000, includes no annualized capital or O&M costs.

Changes in estimates: There is no projected change in burden from the previous ICR.

(39) Docket ID Number: EPA-HQ-OAR-2023-0123; NESHAP for Epoxy Resin and Non-Nylon Polyamide Production (40 CFR part 63, subpart W) (Renewal); EPA ICR Number 1681.11; OMB Control Number 2060-0290; Expiration date February 28, 2025.

Respondents: Epoxy resin and non-nylon polyamide resin production facilities.

Respondent's obligation to respond: Mandatory (40 CFR part 63, subpart W).

Estimated number of respondents: 7.

Frequency of response: Initially, quarterly, semiannually.

Estimated annual burden: 3,940 hours.

Estimated annual cost: $476,000, includes $14,000 annualized capital or O&M costs.

Changes in estimates: There is no projected change in burden from the previous ICR.

(40) Docket ID Number: EPA-HQ-OAR-2023-0125; NESHAP for Shipbuilding and Ship Repair Facilities—Surface Coating (40 CFR part 63, subpart II) (Renewal); EPA ICR Number 1712.12; OMB Control Number 2060-0330; Expiration date February 28, 2025.

Respondents: Shipbuilding and ship repair surface coating facilities.

Respondent's obligation to respond: Mandatory (40 CFR part 63, subpart II).

Estimated number of respondents: 56.

Frequency of response: Semiannually.

Estimated annual burden: 25,600 hours.

Estimated annual cost: $3,000,000, includes no annualized capital or O&M costs.

Changes in estimates: There is no projected change in burden from the previous ICR.

(41) Docket ID Number: EPA-HQ-OAR-2020-0634; NESHAP for the Secondary Lead Smelter Industry (40 CFR part 63, subpart X) (Renewal); EPA ICR Number 1686.13; OMB Control Number 2060-0296; Expiration date February 28, 2025.

Respondents: Secondary lead smelter facilities.

Respondent's obligation to respond: Mandatory (40 CFR part 63, subpart X).

Estimated number of respondents: 12.

Frequency of response: Semiannually, annually.

Estimated annual burden: 21,700 hours.

Estimated annual cost: $2,830,000, includes $251,000 annualized capital or O&M costs.

Changes in estimates: There is no projected change in burden from the previous ICR.

(42) Docket ID Number: EPA-HQ-OAR-2023-0127; NESHAP for Pharmaceutical Production (40 CFR part 63, subpart GGG) (Renewal); EPA ICR Number 1781.10; OMB Control Number 2060-0358; Expiration date February 28, 2025.

Respondents: Pharmaceutical production facilities.

Respondent's obligation to respond: Mandatory (40 CFR part 63, subpart GGG).

Estimated number of respondents: 27.

Frequency of response: Initially, semiannually.

Estimated annual burden: 44,300 hours.

Estimated annual cost: $5,300,000, includes $112,000 annualized capital or O&M costs.

Changes in estimates: There is no projected change in burden from the previous ICR.

(43) Docket ID Number: EPA-HQ-OAR-2023-0119; NESHAP for Beryllium Rocket Motor Fuel Firing (40 CFR part 61, subpart D) (Renewal); EPA ICR Number 1125.10; OMB Control Number 2060-0394; Expiration date February 28, 2025.

Respondents: Beryllium rocket motor fuel firing test sites.

Respondent's obligation to respond: Mandatory (40 CFR part 61, subpart D).

Estimated number of respondents: 1.

Frequency of response: Initially, monthly.

Estimated annual burden: 9 hours.

Estimated annual cost: $1,110, includes no annualized capital or O&M costs.

Changes in estimates: There is no projected change in burden from the previous ICR.

(44) Docket ID Number: EPA-HQ-OAR-2023-0128; NESHAP for Polyether Polyols Production (40 CFR part 63, subpart PPP) (Renewal); EPA ICR Number 1811.12; OMB Control Number 2060-0415; Expiration date February 28, 2025.

Respondents: Polyether polyols production facilities.

Respondent's obligation to respond: Mandatory (40 CFR part 63, subpart PPP).

Estimated number of respondents: 23.

Frequency of response: Semiannually.

Estimated annual burden: 3,710 hours.

Estimated annual cost: $429,000, includes no annualized capital or O&M costs.

Changes in estimates: There is no projected change in burden from the previous ICR.

(45) Docket ID Number: EPA-HQ-OAR-2023-0133; NESHAP for Site Remediation (40 CFR part 63, subpart GGGGG) (Renewal); EPA ICR Number 2062.10; OMB Control Number 2060-0534; Expiration date February 28, 2025.

Respondents: Facilities that conduct site remediation activities.

Respondent's obligation to respond: Mandatory (40 CFR part 63, subpart GGGGG).

Estimated number of respondents: 30.

Frequency of response: Initially, semiannually.

Estimated annual burden: 19,724 hours.

Estimated annual cost: $1,547,910, includes $287,910 annualized capital or O&M costs.

Changes in estimates: There is no projected change in burden from the previous ICR.

(46) Docket ID Number: EPA-HQ-OAR-2020-0635; NESHAP for Primary Copper Smelters (40 CFR part 63, subpart QQQ) (Renewal); EPA ICR Number 1850.10; OMB Control Number 2060-0476; Expiration date February 28, 2025.

Respondents: Primary copper smelters.

Respondent's obligation to respond: Mandatory (40 CFR part 63, subpart QQQ).

Estimated number of respondents: 2.

Frequency of response: Initially, semiannually, annually.

Estimated annual burden: 6,380 hours.

Estimated annual cost: $761,000, includes $5,480 annualized capital or O&M costs.

Changes in estimates: There is no projected change in burden from the previous ICR.

(47) Docket ID Number: EPA-HQ-OAR-2023-0117; NESHAP for Benzene Emissions from Benzene Storage Vessels and Coke Oven By-Product Recovery Plants (40 CFR part 61, subparts L and Y) (Renewal); EPA ICR Number 1080.17; OMB Control Number 2060-0185; Expiration date February 28, 2025.

Respondents: Benzene storage vessels and coke oven by-product recovery plants.

Respondent's obligation to respond: Mandatory (40 CFR part 61, subparts L and Y).

Estimated number of respondents: 13.

Frequency of response: Annually, semiannually.

Estimated annual burden: 1,730 hours.

Estimated annual cost: $201,000, includes no annualized capital or O&M costs.

Changes in estimates: There is a projected decrease in burden due to a decrease in the number of sources subject to the regulation.

(48) Docket ID Number: EPA-HQ-OAR-2023-0131; NESHAP for Rubber Tire Manufacturing (40 CFR part 63, subpart XXXX) (Renewal); EPA ICR Number 1982.05; OMB Control Number 2060-0449; Expiration date February 28, 2025.

Respondents: Rubber tire manufacturing facilities.

Respondent's obligation to respond: Mandatory (40 CFR part 63, subpart XXXX).

Estimated number of respondents: 21.

Frequency of response: Initially, semiannually, annually.

Estimated annual burden: 5,870 hours.

Estimated annual cost: $819,000, includes no annualized capital or O&M costs.

Changes in estimates: There is no projected change in burden from the previous ICR.

(49) Docket ID Number: EPA-HQ-OAR-2017-0685; NESHAP for Metal Coil Surface Coating Plants (40 CFR part 63, subpart SSSS) (Renewal); EPA ICR Number 1957.11; OMB Control Number 2060-0487; Expiration date February 28, 2025.

Respondents: Metal coil surface coating sources.

Respondent's obligation to respond: Mandatory (40 CFR part 63, subpart SSSS).

Estimated number of respondents: 48.

Frequency of response: Initially, semiannually.

Estimated annual burden: 16,838 hours.

Estimated annual cost: $2,091,000, includes $243,600 annualized capital or O&M costs.

Changes in estimates: There is no projected change in burden from the previous ICR.

(50) Docket ID Number: EPA-HQ-OAR-2017-0357; NESHAP for Carbon Black, Ethylene, Cyanide, and Spandex (40 CFR part 63, subpart YY) (Renewal); EPA ICR Number 1983.11; OMB Control Number 2060-0489; Expiration date February 25, 2025.

Respondents: Carbon black, ethylene, cyanide, and spandex production facilities.

Respondent's obligation to respond: Mandatory (40 CFR part 63, subpart YY).

Estimated number of respondents: 61.

Frequency of response: Initially, semiannually.

Estimated annual burden: 50,300 hours.

Estimated annual cost: $ 9,340,000, includes $4,015,500 annualized capital or O&M costs.

Changes in estimates: There is a projected increase in burden due to an increase in the number of sources subject to the regulation.

(51) Docket ID Number: EPA-HQ-OAR-2023-0132; NESHAP for Hydrochloric Acid Production (40 CFR part 63, subpart NNNNN) (Renewal); EPA ICR Number 2032.12; OMB Control Number 2060-0529; Expiration date February 28, 2025.

Respondents: Hydrochloric acid production facilities.

Respondent's obligation to respond: Mandatory (40 CFR part 63, subpart NNNNN).

Estimated number of respondents: 19.

Frequency of response: Initially, semiannually.

Estimated annual burden: 22,000 hours.

Estimated annual cost: $1,562,000, includes $162,000 annualized capital or O&M costs.

Changes in estimates: There is no projected change in burden from the previous ICR.

Penny Lassiter,
Director, Sector Policies and Programs Division.

[FR Doc. 2023-10566 Filed 5-17-23; 8:45 am]

BILLING CODE 6560-50-P